DEPARTMENT OF HOUSING AND URBAN DEVELOPMENT

[Docket No. FR-5486-N-01]

Notice of Proposed Information Collection for Public Comment: Notice of Funding Availability for the Transformation Initiative: Natural Experiment Grant Program

AGENCY: Office of the Assistant Secretary for Policy Development and Research, HUD.

ACTION: Notice.

SUMMARY: The proposed information collection requirement described below will be submitted to the Office of Management and Budget (OMB) for review, as required by the Paperwork Reduction Act. The Department is soliciting public comments on the subject proposal.

DATES: Comment Due Date: March 25, 2011.

ADDRESSES: Interested persons are invited to submit comments regarding this proposal. Comments should refer to the proposal by name and/or OMB Control Number and should be sent to: Michael Morse, Office of Policy Development and Research, Department of Housing and Urban Development, 451 7th Street, SW., Room 8128, Washington, DC 20410-6000.

FOR FURTHER INFORMATION CONTACT: Michael Morse at (202) 402-5738 (this is not a toll-free number), for copies of the proposed forms and other available documents.

SUPPLEMENTARY INFORMATION: The Department of Housing and Urban Development will submit the proposed extension of information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submission of responses.

This Notice also lists the following information:

Title of Proposal: Transformation Initiative: Natural Experiment Grant Program.

Description of Information Collection: This is a new information collection. The purpose of this effort is to provide funding to support scientific research that makes use of natural experiments to evaluate the impacts of local, State, and Federal policies. In Fiscal Year (FY) 2010, approximately $600,000 has been made available for this program by the Department of Housing and Urban Development Appropriations Act, 2010 (Pub. L. 111-117 approved December 16, 2009). This program is approved under HUD's research authority under the Transition Initiative Fund. The maximum grant performance period is 24 months. An applicant can request $100,000 to $250,000 per award, depending on the scope of the research proposed. Awards under this NOFA will be made in the form of a Cooperative Agreement. The actual Notice of Funding Availability (NOFA) will contain the selection criteria for awarding grants and specific requirements that will apply to selected grantees.

OMB Control Number: None.

Agency Form Numbers: SF-424, SF-424 Supplemental, HUD-424-CB, SF-LLL, HUD-2880, HUD-2993, HUD-96010 and HUD-96011. http://portal.hud.gov/portal/page/portal/HUD/program_offices/administration/hudclips/forms.

Members of Affected Public: Nonprofit organizations, for profit organizations located in the U.S. (HUD will not pay fee or profit for the work conducted under this NOFA), foundations, think tanks, consortia, Institutions of higher education accredited by a national or regional accrediting agency recognized by the U.S. Department of Education and other entities that will sponsor a researcher, expert or analyst.

Estimation of the total numbers of hours needed to prepare the information collection including number of respondents, frequency of responses, and hours of responses:

(1) Pre-Award

HUD estimates that each applicant spends approximately 42 person-hours to complete an application. Almost all of this time is invested by a professor or other senior administrator who would oversee the program. HUD estimates the mean hourly rate at $30. For 20 applications, the computation is as follows: 20 applications × 42 hours × $30 per hours= $25,200.

(2) Post-Award

HUD estimates that each grantee will spend approximately 6 hours a year maintaining records. HUD also estimates that each grantee will spend approximately 4 hours a year preparing monitoring reports. Clerical staff and faculty/supervisory staff will share this burden. HUD estimates the applicable hourly rate at $15. The computation is as follow: 5 grantees × 10 hours × $15 an hour = $750.

Description of information collection | Number of respondents | Responses per year | Total annual responses | Hours per response | Total hours
SF424 | 20 | 1 | 20 | 0.75 | 15
SF424 Supplement | 20 | 1 | 20 | 0.08 | 1.6
HUD 424CB | 20 | 1 | 20 | 3 | 60
SFLLL | 20 | 1 | 20 | 0.17 | 3.4
HUD 2880 (2510-0011) | 20 | 1 | 20 | 0 | 0
HUD 96010 (2535-0114) | 20 | 1 | 20 | 3 | 60
Rating factor 1 | 20 | 1 | 20 | 7 | 140
Rating factor 2 | 20 | 1 | 20 | 7 | 140
Rating factor 3 | 20 | 1 | 20 | 7 | 140
Rating factor 4 | 20 | 1 | 20 | 7 | 140
Rating factor 5 | 20 | 1 | 20 | 7 | 140
Subtotal (Application) | 20 | 1 | 20 | 42 | 840
Quarterly Reports | 5 | 4 | 20 | 6 | 120
Record keeping | 5 |  | 5 | 4 | 20
Total | 20 |  | 40 | Varies | 980

Total Estimated Burden Hours: 980.

Status of the proposed information collection: New collection.

Status of the proposed information collection: Pending OMB approval.

Authority: U.S. Code Title 12 1701z; Research and demonstrations.

Dated: January 13, 2011.
Raphael W. Bostic,
Assistant Secretary for Policy Development and Research.

[FR Doc. 2011-1348 Filed 1-21-11; 8:45 am]

BILLING CODE 4210-67-P